DEPARTMENT OF STATE

[Public Notice: 10956]

Cultural Property Advisory Committee; Notice of Meeting

AGENCY: Department of State.

ACTION: Notice of meeting.

SUMMARY: The Department of State is issuing this notice to announce the location, date, time, and agenda for the next meeting of the Cultural Property Advisory Committee.

DATES: January 21-22, 2020, 9:00 a.m. to 5:00 p.m. (EST). The Cultural Property Advisory Committee will hold an open session on January 21, 2020, at 1:30 p.m. (EST). It will last approximately one hour.

Participation: You may participate electronically by Zoom. To participate, visit http://culturalheritage.state.gov for information on how to access the meeting. Please submit any request for reasonable accommodation not later than January 7, 2020, by contacting the Bureau of Educational and Cultural Affairs at culprop@state.gov. It may not be possible to accommodate requests received after that date.

Comments: The Committee will review your written comment if it is received by January 7, 2020, at 11:59 p.m. (EST). You are not required to submit a written comment in order to make an oral comment in the open session.

ADDRESSES: The public will participate electronically by Zoom. The Committee members will meet at the U.S. Department of State, Annex 5, 2200 C St. NW, Washington, DC .

Written Comments: You may submit written comments in two ways, depending on whether they contain privileged or confidential information:

Electronic Comments: For ordinary comments, please use http://www.regulations.gov, enter the docket [DOS-2019-0043] and follow the prompts to submit your comments.

Paper Comments: For comments that contain privileged or confidential information (within the meaning of 19 U.S.C. 2605(i)(1)), please send submissions to: U.S. Department of State, Bureau of Educational and Cultural Affairs—Cultural Heritage Center, SA-5 Floor 5, 2200 C St. NW, Washington, DC 20522-0505.

FOR FURTHER INFORMATION CONTACT: For general questions concerning the meeting, contact Cathy Bing, Bureau of Educational and Cultural Affairs—Cultural Heritage Center, by phone, (202) 632-6301, or email: culprop@state.gov.

SUPPLEMENTARY INFORMATION: In accordance with the Convention on Cultural Property Implementation Act (19 U.S.C. 2601 et seq.) (“the Act”), the Assistant Secretary of State for Educational and Cultural Affairs calls a meeting of the Cultural Property Advisory Committee (“the Committee”) (19 U.S.C. 2605(e)(2)). The Act describes the Committee's responsibilities. A portion of this meeting will be closed to the public pursuant to 5 U.S.C. 552b(c)(9)(B) and 19 U.S.C. 2605(h).

Meeting Agenda: The Committee will review the requests by the Government of the Republic of Turkey and the Government of the Republic of Tunisia seeking import restrictions on archaeological and ethnological material.

Open Session Participation: The Committee will hold an open session of the meeting to receive oral public comments on the requests from Turkey and Tunisia on Tuesday, January 21, 2020, from 1:30 p.m. to approximately 2:30 p.m. (EST). We have provided specific instructions on how to participate or observe the open session at https://eca.state.gov/cultural-heritage-center. You do not need to register to observe the open session. You do not have to submit written comments to make an oral comment in the open session. But if you do wish to speak, you must request to be scheduled by January 14, 2020, via email (culprop@state.gov) in order to be assigned a slot. Please submit your name and organizational affiliation in this request. The open session will start with a brief presentation by the Committee, after which you should be prepared to answer questions on any written statements you may have submitted. Finally, you may provide additional oral comments for up to five (5) minutes per participant. Due to time constraints, it may not be possible to accommodate all who wish to speak.

Written Comments: If you do not wish to participate in the open session but still wish to make your views known, you may submit written comments for the Committee's consideration. Submit non-privileged and non-confidential information (within the meaning of 19 U.S.C. 2605(i)(1)) regarding the requests from Turkey and Tunisia using the Regulations.gov website (listed in the “COMMENTS” section above) not later than January 7, 2020, at 11:59 p.m. (EST). Please send comments that contain privileged or confidential information (within the meaning of 19 U.S.C. 2605(i)(1)) to: U.S. Department of State, Bureau of Educational and Cultural Affairs—Cultural Heritage Center, SA-5 Floor 5, 2200 C St. NW, Washington, DC, 20522-0505. In all cases, your written comments should relate specifically to the determinations specified in the Act at 19 U.S.C. 2602(a)(1). We request that any party soliciting or aggregating written comments received from other persons for submission to the Department inform those persons that the Department will not edit their comments to remove any identifying or contact information and that they therefore should not include any such information in their comments that they do not want publicly disclosed. Written comments submitted using the Regulations.gov website is not private because they will be posted on the Regulations.gov website. Because written comments cannot be edited to remove any personally identifying or contact information, we caution against including any such information in an electronic submission without appropriate permission to disclose that information (including trade secrets and commercial or financial information that are privileged or confidential within the meaning of 19 U.S.C. 2605(i)(1)).

Marie Therese Porter Royce,
Assistant Secretary, Bureau of Educational and Cultural Affairs, Department of State.

[FR Doc. 2019-25683 Filed 11-25-19; 8:45 am]

BILLING CODE 4710-05-P